DEPARTMENT OF TRANSPORTATION

Federal Aviation Administration

14 CFR Part 39

[Docket No. 2000-CE-69-AD; Amendment 39-12126; AD 2001-04-07]

RIN 2120-AA64

Airworthiness Directives; SOCATA-Groupe Aerospatiale Model TBM 700 Airplanes

AGENCY: Federal Aviation Administration, DOT.

ACTION: Final rule.

SUMMARY: This amendment adopts a new airworthiness directive (AD) that applies to certain Socata-Groupe Aerospatiale (Socata) Model TBM 700 airplanes. This AD requires you to install a thermal protection sleeve on the propeller governor flexible cable. This AD is the result of mandatory continuing airworthiness information (MCAI) issued by the airworthiness authority for France. The actions specified by this AD are intended to prevent loss of propeller control because of hardening or blocking of the control cable, which could result in the inability to control propeller pitch and inability to feather the propeller. Such failure could lead to loss of airplane control.

DATES: This AD becomes effective on April 13, 2001.

The Director of the Federal Register approved the incorporation by reference of certain publications listed in the regulations as of April 13, 2001.

ADDRESSES: You may get the service information referenced in this AD from Socata Groupe Aerospatiale, Customer Support, Aerodrome Tarbes-Ossun-Lourdes, BP 930-F65009 Tarbes Cedex, France; telephone: (33) (0)5.62.41.73.00; facsimile: (33) (0)5.62.41.76.54; or the Product Support Manager, Socata-Groupe Aerospatiale, North Perry Airport, 7501 Pembroke Road, Pembroke Pines, Florida 33023; telephone: (954) 894-1160; facsimile: (954) 964-4191. You may examine this information at the Federal Aviation Administration (FAA), Central Region, Office of the Regional Counsel, Attention: Rules Docket No. 2000-CE-69-AD, 901 Locust, Room 506, Kansas City, Missouri 64106; or at the Office of the Federal Register, 800 North Capitol Street, NW., suite 700, Washington, DC.

FOR FURTHER INFORMATION CONTACT: Karl Schletzbaum, Aerospace Engineer, FAA, Small Airplane Directorate, 901 Locust, Room 301, Kansas City, Missouri 64106; telephone: (816) 329-4146; facsimile: (816) 329-4090.

SUPPLEMENTARY INFORMATION:

Discussion

What events have caused this AD? The Direction Générale de l'Aviation Civile (DGAC), which is the airworthiness authority for France, recently notified FAA that an unsafe condition may exist on certain Socata Model TBM 700 airplanes. The DGAC reports five occurrences on civilian and military Socata Model TBM 700 airplanes where there was damage to the internal sleeve of the flexible propeller control cable. This damage was because of thermal conduction generated by the turboprop left hand exhaust nozzle.

What are the consequences if the condition is not corrected? The actions specified by this AD are intended to prevent loss of propeller control because of hardening or blocking of the control cable. This could result in the inability to control propeller pitch and inability to feather the propeller. Such failure could lead to loss of airplane control.

Has FAA taken any action to this point? We issued a proposal to amend part 39 of the Federal Aviation Regulations (14 CFR part 39) to include an AD that would apply to certain SOCATA Model TBM 700 airplanes. This proposal was published in the Federal Register as a notice of proposed rulemaking (NPRM) on December 14, 2000 (65 FR 78122). The NPRM proposed to require you to install a thermal protection sleeve on the propeller governor flexible cable.

Was the public invited to comment? Interested persons were afforded an opportunity to participate in the making of this amendment. No comments were received on the proposed rule or the FAA's determination of the cost to the public.

FAA's Determination

What is FAA's final determination on this issue? After careful review of all available information related to the subject presented above, we have determined that air safety and the public interest require the adoption of the rule as proposed except for minor editorial corrections. We determined that these minor corrections:

—Will not change the meaning of the AD; and

—Will not add any additional burden upon the public than was already proposed.

Cost Impact

How many airplanes does this AD impact? We estimate that this AD affects 80 airplanes in the U.S. registry.

What is the cost impact of this AD on owners/operators of the affected airplanes? We estimate the following costs to accomplish the modification:

Labor cost | Parts cost | Total cost per airplane | Total cost on U.S. operators
2 workhours × $60 per hour = $120 | $40 | $120 + $40 = $160 | $160 × 80 = $12,800.

Compliance Time of This AD

What will be the compliance time of this AD? The compliance time of this AD will be within the next 100 hours time-in-service (TIS) after the effective date of this AD or within the next 3 calendar months after the effective date of this AD, whichever occurs first.

Why is the compliance time of this AD presented in both hours TIS and calendar time? The affected airplanes are used in general aviation operations. Those operators may accumulate 100 hours TIS on the airplane in less than 3 months and many owners have numerous affected airplanes. We have determined that the dual compliance time:

—Gives all owners/operators of the affected airplanes adequate time to schedule and do the actions in this AD; and

—Ensures that the unsafe condition referenced in this AD will be corrected within a reasonable time period without inadvertently grounding any of the affected airplanes.

What are the differences between the French AD and this AD? The French AD requires the modification at the next scheduled inspection and at the latest before December 21, 2000. We are requiring that you install the thermal protection sleeve within the next 100 hours time-in-service (TIS), or within the next 3 calendar months, whichever occurs first.

We cannot legally enforce a compliance time of at the next scheduled inspection. We believe that a compliance time of 100 hours TIS or within the next 3 months, whichever occurs first, will give the owners or operators of the affected airplanes enough time to have the actions accomplished without compromising the safety of the airplanes.

Regulatory Impact

Does this AD impact various entities? The regulations adopted herein will not have a substantial direct effect on the States, on the relationship between the national government and the States, or on the distribution of power and responsibilities among the various levels of government. Therefore, it is determined that this final rule does not have federalism implications under Executive Order 13132.

Does this AD involve a significant rule or regulatory action? For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A copy of the final evaluation prepared for this action is contained in the Rules Docket. A copy of it may be obtained by contacting the Rules Docket at the location provided under the caption ADDRESSES.

List of Subjects in 14 CFR Part 39

Air transportation, Aircraft, Aviation safety, Incorporation by reference, Safety.

Adoption of the Amendment

Accordingly, under the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. FAA amends § 39.13 by adding a new AD to read as follows:

2001-04-07 Socata-Groupe Aerospatiale: Amendment 39-12126; Docket No. 2000-CE-69-AD.

(a) What airplanes are affected by this AD? This AD affects Model TBM 700 airplanes, serial numbers 1 through 156, and 158 thru 163, that are certificated in any category.

(b) Who must comply with this AD? Anyone who wishes to operate any of the above airplanes must comply with this AD.

(c) What problem does this AD address? The actions specified by this AD are intended to prevent loss of propeller control because of hardening or blocking of the control cable, which could result in the inability to control propeller pitch and inability to feather the propeller. Such failure could lead to loss of airplane control.

(d) What actions must I accomplish to address this problem? To address this problem, you must accomplish the following:

Actions | Compliance | Procedures
Install a thermal protection sleeve on the propeller governor flexible cable | Within the next 100 hours time-in-service (TIS) after April 13, 2001 (the effective date of this AD) or within the next 3 calendar months after April 13, 2001, whichever occurs first, unless already accomplished | In accordance with Accomplishment Instructions of Socata Service Bulletin SB 70-084, dated September 2000, and the applicable maintenance manual.

(e) Can I comply with this AD in any other way? You may use an alternative method of compliance or adjust the compliance time if:

(1) Your alternative method of compliance provides an equivalent level of safety; and

(2) The Manager, Small Airplane Directorate, approves your alternative. Submit your request through an FAA Principal Maintenance Inspector, who may add comments and then send it to the Manager, Small Airplane Directorate.

Note 1: This AD applies to each airplane identified in paragraph (a) of this AD, regardless of whether it has been modified, altered, or repaired in the area subject to the requirements of this AD. For airplanes that have been modified, altered, or repaired so that the performance of the requirements of this AD is affected, the owner/operator must request approval for an alternative method of compliance in accordance with paragraph (e) of this AD. The request should include an assessment of the effect of the modification, alteration, or repair on the unsafe condition addressed by this AD; and, if you have not eliminated the unsafe condition, specific actions you propose to address it.

(f) Where can I get information about any already-approved alternative methods of compliance? Contact Karl Schletzbaum, Aerospace Engineer, FAA, Small Airplane Directorate, 901 Locust, Room 301, Kansas City, Missouri 64016; telephone: (816) 329-4146; facsimile: (816) 329-4090.

(g) What if I need to fly the airplane to another location to comply with this AD? The FAA can issue a special flight permit under sections 21.197 and 21.199 of the Federal Aviation Regulations (14 CFR 21.197 and 21.199) to operate your airplane to a location where you can accomplish the requirements of this AD.

(h) Are any service bulletins incorporated into this AD by reference? Actions required by this AD must be done in accordance with Socata Service Bulletin SB 70-084, dated September 2000. The Director of the Federal Register approved this incorporation by reference under 5 U.S.C. 552(a) and 1 CFR part 51. You can get copies from Socata Groupe Aerospatiale, Customer Support, Aerodrome Tarbes-Ossun-Lourdes, BP 930-F65009 Tarbes Cedex, France; or the Product Support Manager, Socata-Groupe Aerospatiale, North Perry Airport, 7501 Pembroke Road, Pembroke Pines, Florida 33023. You can look at copies at the FAA, Central Region, Office of the Regional Counsel, 901 Locust, Room 506, Kansas City, Missouri, or at the Office of the Federal Register, 800 North Capitol Street, NW, suite 700, Washington, DC.

(i) When does this amendment become effective? This amendment becomes effective on April 13, 2001.

Note 2: The subject of this AD is addressed in French AD 2000-430(A), dated November 15, 2000.

Issued in Kansas City, Missouri, on February 14, 2001.
Michael Gallagher,
Manager, Small Airplane Directorate, Aircraft Certification Service.

[FR Doc. 01-4399 Filed 2-27-01; 8:45 am]

BILLING CODE 4910-13-U